DEPARTMENT OF COMMERCE

National Oceanic and Atmospheric Administration

National Estuarine Research Reserve System

AGENCY: Estuarine Reserves Division, Office of Ocean and Coastal Resource Management, National Ocean Service, National Oceanic and Atmospheric Administration, U.S. Department of Commerce.

ACTION: Notice of Public Comment Period for the Revised Management Plan for the Jacques Cousteau National Estuarine Research Reserve.

SUMMARY: Notice is hereby given that the Estuarine Reserves Division, Office of Ocean and Coastal Resource Management, National Ocean Service, National Oceanic and Atmospheric Administration (NOAA), U.S. Department of Commerce is announcing a thirty day public comment period on the Jacques Cousteau National Estuarine Research Reserve Management Plan Revision.

The Jacques Cousteau National Estuarine Research Reserve consists of public lands within the Mullica River-Great Bay watershed of New Jersey and managed by a variety of local, state, and federal agencies. The site was designated as the Jacques Cousteau National Estuarine Research Reserve in 1998 pursuant to Section 315 of the Coastal Zone Management Act of 1972, as amended, 16 U.S.C. 1461. The reserve has been operating in partnership with The Institute of Marine and Coastal Sciences of Rutgers, the State University of New Jersey under a management plan approved in 1997. Pursuant to 15 CFR 921.33(c), a state must revise their management plan every five years. The submission of this plan fulfills this requirement and sets a course for successful implementation of the goals and objectives of the reserve. A boundary expansion and land conservation initiative, new facilities, and updated programmatic objectives are notable revisions to the 1997 approved management plan.

The revised management plan outlines the administrative structure; the research, coastal training, education and outreach, and stewardship goals of the reserve; and the plans for future land acquisition and facility development to support reserve operations. This management plan describes how the reserve will focus on three key coastal management issues: Nutrient inputs into coastal waters; human alteration of habitat and water quality; and effects of climate change on coastal and estuarine systems.

Since 1997, the reserve has completed a site profile that characterizes the reserve; they have also expanded the coastal training, research and monitoring, stewardship and education programs significantly. A new administrative building, the Jacques Cousteau Coastal Center, and a new interpretive exhibit, “Life on the Edge” at the Tuckerton Seaport, have been built to support the growth of reserve programs.

With the approval of this management plan, the Jacques Cousteau National Estuarine Research Reserve will expand their total acreage from 114,665 acres to 114,873 acres. This change is attributable to the acquisition of four parcels within the Mullica River watershed through a partnership with New Jersey Conservation Foundation and the continued implementation of the Mullica River Conservation Initiative. The acquisition of Bear Creek Preserve (100 acres), Hanselman Preserve (57 acres), Rudolph Property (31 acres), and Lee Property (20 acres) provides additional buffer areas (mixed pitch pine-scrub oak upland, Atlantic white cedar forest) for key land and water areas (salt marsh flats, tidal wetlands).

FOR FURTHER INFORMATION CONTACT: Michael Migliori at (301) 563-1126 or Laurie McGilvray at (301) 563-1158 of NOAA's National Ocean Service, Estuarine Reserves Division, 1305 East-West Highway, N/ORM5, 10th floor, Silver Spring, MD 20910. For copies of the Jacques Cousteau Management Plan revision, visit http://www.jcnerr.org/.

Dated: August 3, 2009.
David M. Kennedy,
Director, Office of Ocean and Coastal Resource Management, National Oceanic and Atmospheric Administration.

[FR Doc. E9-19284 Filed 8-12-09; 8:45 am]

BILLING CODE 3510-08-M